EXPORT-IMPORT BANK OF THE U.S.

[Public Notice 145]

Agency Information Collection Activities: Final Collection; Comment Request

Correction

In notice document 2010-3647 appearing on page 8353 in the issue of February 24, 2010, make the following correction:

In the first column, the paragraph that begins with “DATES:” should read: “DATES: Comments should be received on or before April 26, 2010 to be assured of consideration.”

[FR Doc. C1-2010-3647 Filed 3-2-10; 8:45 am]

BILLING CODE 1505-01-D